DEPARTMENT OF ENERGY

Federal Energy Regulatory Commission

[Project No. 14773-000]

Swanton Hydro, LLC; Notice of Preliminary Permit Application Accepted for Filing and Soliciting Comments, Motions To Intervene, and Competing Applications

On April 1, 2016, Swanton Hydro, LLC (Swanton Hydro) filed an application for a preliminary permit, pursuant to section 4(f) of the Federal Power Act (FPA), proposing to study the feasibility of the Lower Swanton Dam Hydroelectric Project (project) to be located on the Missisquoi River in the Village of Swanton, Franklin County, Vermont. The sole purpose of a preliminary permit, if issued, is to grant the permit holder priority to file a license application during the permit term. A preliminary permit does not authorize the permit holder to perform any land-disturbing activities or otherwise enter upon lands or waters owned by others without the owners' express permission.

The proposed project would consist of: (1) An existing 335-foot-long, 12-foot-high concrete gravity dam (Swanton dam) with a 331-foot-long spillway with 2-foot-high wooden flashboards; (2) an existing 170-acre impoundment with a normal water surface elevation of 112 feet above mean sea level; (3) a new 35-foot-long, 55-foot-wide intake structure with trashracks; (4) a new 100-foot-long, 55-foot-wide, 25-foot-high powerhouse containing two turbine-generator units with a total installed capacity of 850 kilowatts; (5) a new 45-foot-long, 45-foot-wide, 18-foot-deep tailrace and 50-foot-long training wall; (6) a new 210-foot-long, 12.47-kilovolt transmission line and transformer; and (7) appurtenant facilities. The project would produce an estimated average annual generation of 3,580 megawatt-hours. There are no federal lands associated with the project.

Applicant Contact: William F. Scully, P.O. Box 338, North Bennington, Vermont 05257; phone: (802) 379-2469.

FERC Contact: Tom Dean (202) 502-6041.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14773-000.

More information about this project, including a copy of the application, can be viewed or printed on the “eLibrary” link of the Commission's Web site at http://www.ferc.gov/docs-filing/elibrary.asp. Enter the docket number (P-14773) in the docket number field to access the document. For assistance, contact FERC Online Support.

Dated: May 17, 2016.
Kimberly D. Bose,
Secretary.

[FR Doc. 2016-12065 Filed 5-20-16; 8:45 am]

BILLING CODE 6717-01-P